NUCLEAR REGULATORY COMMISSION

The Advisory Committee on Nuclear Waste; Notice of Meeting

The Advisory Committee on Nuclear Waste (ACNW) will hold its 160th meeting on June 15-17, 2005, Room T-2B3, Two White Flint North, 11545 Rockville Pike, Rockville, Maryland. The date of this meeting was previously published in the Federal Register on Wednesday, December 8, 2004 (69 FR 71084).

The schedule for this meeting is as follows:

Wednesday, June 15, 2005

The Working Group Chairman will state the objectives for this Working Group Meeting and provide an overview of the planned technical sessions. Invited experts will also be introduced at this time. The purpose of this Working Group Meeting is to allow the Committee to comment on draft guidance that is being prepared to implement the License Termination Rule.

Thursday, June 16, 2005

10:15 a.m.-10:30 a.m.: Opening Statement (Open)—The ACNW Chairman will make opening remarks regarding the conduct of today's sessions.

10:30 a.m.-12 Noon: Discussion on International Commission on Radiation Protection (ICRP) Foundation Documents (Open)—The Committee will provide comments to the staff on the Committee's review of the latest ICRP Foundation Documents.

1:30 p.m.-3:30 p.m.: Preparation of ACNW Reports/Letters (Open)—The Committee will discuss proposed ACNW reports on matters considered during this meeting.

3:45 p.m.-5 p.m.: Risk-Informing NMSS Activities (Open)—The Committee will be briefed on NMSS staff approach to risk-inform decision-making for nuclear materials and waste applications.

5 p.m.-5:20 p.m.: Draft White Paper on High-Level Waste Transportation Issues (Open)—The Committee will discuss the elements of a proposed White Paper on the transportation of spent nuclear fuel and other high-level waste.

5:20 p.m.-5:40 p.m.: Draft ACNW White Paper on Low-Level Waste (Open)—The Committee will comment on the draft outline for the proposed White Paper on low-level radioactive waste management issues.

Friday, June 17, 2005

8:30 a.m.-8:40 a.m.: Opening Remarks by the ACNW Chairman (Open)—The ACNW Chairman will make opening remarks regarding the conduct of today's sessions.

8:40 a.m.-10 a.m.: Report on Review of Center for Nuclear Waste Regulatory.

Analyses' (CNWRA) Research Program (Open)—The Committee will hear a report from Committee members on the CNWRA Research Program based on their visit to, and discussions with, the Center in April 2005.

10 a.m.-11 a.m.: Discussion of Possible Letters (Open)—The Committee will discuss prepared draft letters and determine whether letters would be written on topics discussed during the meeting.

11 a.m.-12 Noon: Miscellaneous (Open)—The Committee will discuss matters related to the conduct of ACNW activities, and specific issues that were not completed during previous meetings, as time and availability of information permit. Discussions may include future Committee Meetings.

Procedures for the conduct of and participation in ACNW meetings were published in the Federal Register on October 18, 2004 (69 FR 61416). In accordance with these procedures, oral or written statements may be presented by members of the public. Electronic recordings will be permitted only during those portions of the meeting that are open to the public. Persons desiring to make oral statements should notify Ms. Sharon A. Steele, (Telephone 301-415-6805), between 7:30 a.m. and 4 p.m. ET, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office prior to the meeting. In view of the possibility that the schedule for ACNW meetings may be adjusted by the Chairman as necessary to facilitate the conduct of the meeting, persons planning to attend should notify Ms. Steele as to their particular needs.

Further information regarding topics to be discussed, whether the meeting has been canceled or rescheduled, the Chairman's ruling on requests for the opportunity to present oral statements and the time allotted, therefore can be obtained by contacting Ms. Steele.

ACNW meeting agenda, meeting transcripts, and letter reports are available through the NRC Public Document Room (PDR) at pdr@nrc.gov, or by calling the PDR at 1-800-397-4209, or from the Publicly Available Records System component of NRC's document system (ADAMS) which is accessible from the NRC Web site at http://www.nrc.gov/reading-rm/adams.html or http://www.nrc.gov/reading-rm/doc-collections/ (ACRS & ACNW Mtg schedules/agendas).

Video Teleconferencing service is available for observing open sessions of ACNW meetings. Those wishing to use this service for observing ACNW meetings should contact Mr. Theron Brown, ACNW Audiovisual Technician (301-415-8066), between 7:30 a.m. and 3:45 p.m. ET, at least 10 days before the meeting to ensure the availability of this service.

Individuals or organizations requesting this service will be responsible for telephone line charges and for providing the equipment and facilities that they use to establish the video teleconferencing link. The availability of video teleconferencing services is not guaranteed.

Dated: May 25, 2005.
Andrew L. Bates,
Advisory Committee Management Officer.

[FR Doc. E5-2762 Filed 5-31-05; 8:45 am]

BILLING CODE 7590-01-P